DEPARTMENT OF ENERGY

Federal Energy Regulatory Commission

[Docket No. RP02-546-000]

Algonquin Gas Transmission Company; Notice of Proposed Changes in FERC Gas Tariff

September 19, 2002.

Take notice that on September 13, 2002, Algonquin Gas Transmission Company (Algonquin) tendered for filing as part of its FERC Gas Tariff, Fourth Revised Volume No. 1, the following tariff sheets to become effective on October 1, 2002:

Nineteenth Revised Sheet No. 36

Fifth Revised Sheet No. 36A

Fifth Revised Sheet No. 690

Algonquin proposes to revise Section 34.2, “Rate Schedules Subject to ACA Surcharge”, of the General Terms and Conditions of Algonquin's FERC Gas Tariff, Fourth Revised Volume No.1, and its AFT-CL Rate tariff sheets to state that the Annual Charge Adjustment (ACA) Unit Surcharge will only be assessed once on the same volume of gas transported on Algonquin's pipeline system. An AFT-CL Customer transporting gas volumes under an AFT-CL Rate Schedule will only be assessed an ACA Surcharge when the AFT-CL Customer does not pay an ACA Surcharge for the same volumes of gas transported under another Algonquin rate schedule.

Algonquin states that copies of this filing were served on all affected customers of Algonquin and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202)502-8222 or for TTY, (202) 502-8659. Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-24331 Filed 9-25-02; 8:45 am]

BILLING CODE 6717-01-P